FEDERAL RETIREMENT THRIFT INVESTMENT BOARD

Notice of Board Meeting

DATES: June 25, 2024 at 9:00 a.m. EDT.

ADDRESSES: Telephonic. Dial-in (listen only) information: Number: 1-202-599-1426, Code: 137 118 470 #; or via web: https://teams.microsoft.com/l/meetup-join/19%3ameeting_MTQ0Nzk4MTQtMzZhOC00YzEyLWEzM2EtOGEyYjg4NGNmZGY5%40thread.v2/0?context=%7b%22Tid%22%3a%223f6323b7-e3fd-4f35-b43d-1a7afae5910d%22%2c%22Oid%22%3a%221a441fb8-5318-4ad0-995b-f28a737f4128%22%7d.

FOR FURTHER INFORMATION CONTACT: Kimberly Weaver, Director, Office of External Affairs, (202) 942-1640.

SUPPLEMENTARY INFORMATION:

Board Meeting Agenda.

Open Session

1. Approval of the May 21, 2024, Board Meeting Minutes

2. Monthly Reports

(a) Participant Report

(b) Investment Report

(c) Legislative Report

3. Quarterly Reports

(d) Vendor Risk Management

4. Annual Financial Audit

Closed Session

5. Information covered under 5 U.S.C. 552b (c)(10)

Authority: 5 U.S.C. 552b (e)(1).

Dated: June 10, 2024.
Dharmesh Vashee,
General Counsel, Federal Retirement Thrift Investment Board.

[FR Doc. 2024-13001 Filed 6-12-24; 8:45 am]

BILLING CODE P